NATIONAL SCIENCE FOUNDATION

Sunshine Act Meeting

Agency Holding Meeting: National Science Foundation; National Science Board and its Subdivisions.

Date and Time: March 24, 25, 2004.

March 24, 2004: 9:15 a.m.-5 p.m.

Concurrent Sessions:

9:15 a.m.-10:15 a.m. Open Session

10:30 a.m.-12 noon Open Session

12 noon-12:30 p.m. Closed Session

12:30 p.m.-1 p.m. Open Session

1 p.m.-1:30 p.m. Closed Session

1:45 p.m.-2:30 p.m. Open Session

2:45 p.m.-5:00 p.m. Open Session

March 25: 8 a.m.-3:30 p.m.

Concurrent Sessions:

8 a.m.-8:15 a.m. Open Session

8:15 a.m.-9 a.m. Closed Session

9 a.m.-11:30 a.m. Open Session

11:45 a.m.-12:15 p.m. Closed Session

12:45 p.m.-3:30 p.m. Open Session

Place: The National Science Foundation, 4201 Wilson Boulevard, Arlington, VA 22230, www.nsf.gov/nsb.

Contact for Information: NSF Information Center (703) 292-5111.

Status: Part of this meeting will be closed to the public.

Part of this meeting will be open to the public.

Matters to be Considered:

Wednesday, March 24, 2004

Open

Committee on Strategy and Budget (9:15 a.m.-10:15 a.m.)

Room 1235

• Approval of Minutes

• Discussion of NSF Response to CSB Inquiries from February, 2004 CSB Meeting

• Discussion of a Process for NSB Review and Approval of the NSF FY 2006 Budget Request

Committee on Audit and Oversight (10:30 a.m.-12 noon)

Room 1235

• Approval of Minutes

• National Academy of Public Administration's Review of NSF—Update

• CFO Update—Grants Monitoring

• NSB Sunshine Act Audit

Executive Committee (12:30 p.m.-1 p.m.)

Room 1295

• Approval of Minutes

• Discussion of OIG Sunshine Act Audit of NSB

Subcommittee on Polar Issues (1:45 p.m.-2:30 p.m.)

Room 1235

• Introduction

• Approval of Minutes

• OPP Director's Report

• Arctic Science: Eddies in the Arctic Ocean

• Antarctic Environmental Stewardship

Committee on Programs and Plans (2:45 p.m.-5 p.m.)

Room 1235

• Approval of Minutes

• Information Item: Status of Planning for NSF's Role in the Renewal of the National Academic Research Fleet

• Status Report: Long-Lived Data Collections

• High Risk Research

• Report from the Polar Issues Subcommittee

• Discussion of NAS Report on Setting Priorities for Large Research Facilities Supported by NSF

Closed

Committee on Audit and Oversight (12 noon-12:30 p.m.)

Room 1235

• Presentation of Ongoing OIG Investigation

Executive Committee (1-1:30)

Room 1295

• NSB Member Proposals

• Director's Items, Including

— Specific Personnel Matters

— Future Budgets

Thursday, March 24, 2004

Open

Ad Hoc Committee on 2004 Vannevar Bush Award (8 a.m.-8:15 a.m.)

(Room 1240)

• Review Selection Criteria

• Review Solicitation Process

Committee on Education and Human Resources (9 a.m.-11:30 a.m.)

(Room 1235)

• Approval of Minutes

• Comments from the Chair

• Report from the Subcommittee on S&E Indicators

• Broadening Participation Workshop

• Presentation on EHR Priorities and 2005 Budget

Plenary session of the Board (12:45 p.m.-3:30 p.m.)

Room 1235

• Approval of Open Minutes from February, 2004

• Resolution to Close Portions of May, 2004

• Chairman's Report, including

— Report on Senate Appropriation Hearings

— Update on Smithsonian Institution Funding

• Director's Report

• Committee Reports

Closed

Ad Hoc Committee on the 2004 Vannevar Bush Awards (8:15 a.m.-9 a.m.)

Room 1240

• Discussion of Candidates

• Balloting

Plenary session of the Board (11:45 a.m.-12:15 p.m.)

Room 1235

In Executive Closed Session:

• Nominating Committee Election

• Approval of Honorary Awards

In Closed Session:

• Approval of Minutes from February, 2004

• NSB Member Proposals

• Closed Committee Reports, if Any

Michael P. Crosby,
Executive Officer, NSB.

[FR Doc. 04-5984 Filed 3-12-04; 11:29 am]

BILLING CODE 7555-01-P